DEPARTMENT OF ENERGY

Federal Energy Regulatory Commission

Combined Notice of Filings #1

Take notice that the Commission received the following electric corporate filings:

Docket Numbers: EC23-49-000.

Applicants: Citizens S-Line Transmission LLC.

Description: Application for Authorization Under Section 203 of the Federal Power Act of Citizens S-Line Transmission LLC.

Filed Date: 1/5/23.

Accession Number: 20230105-5184.

Comment Date: 5 p.m. ET 1/26/23.

Docket Numbers: EC23-50-000.

Applicants: Salem Harbor Power Develop.m.ent LP.

Description: Application for Authorization Under Section 203 of the Federal Power Act of Salem Harbor Power Develop.m.ent LP.

Filed Date: 1/6/23.

Accession Number: 20230106-5168.

Comment Date: 5 p.m. ET 1/27/23.

Take notice that the Commission received the following exempt wholesale generator filings:

Docket Numbers: EG23-56-000.

Applicants: 92JT 8ME, LLC.

Description: 92JT 8ME, LLC submits Notice of Self-Certification of Exempt Wholesale Generator Status.

Filed Date: 1/9/23.

Accession Number: 20230109-5113.

Comment Date: 5 p.m. ET 1/30/23.

Take notice that the Commission received the following electric rate filings:

Docket Numbers: ER10-1437-012; ER10-2732-020; ER10-2733-020; ER10-2734-020; ER10-2736-020; ER10-2737-020; ER10-2741-020; ER10-2749-021; ER10-2752-020; ER12-2492-016; ER12-2493-016; ER12-2494-016; ER12-2495-016; ER12-2496-016; ER16-2455-010; ER16-2456-010; ER16-2457-010; ER16-2459-010; ER18-1404-006; ER19-2096-003.

Applicants: Emera Energy LNG, LLC, NS Power Energy Marketing Inc., Emera Energy Services Subsidiary No. 15 LLC, Emera Energy Services Subsidiary No. 13 LLC, Emera Energy Services Subsidiary No. 12 LLC, Emera Energy Services Subsidiary No. 11 LLC, Emera Energy Services Subsidiary No. 10 LLC, Emera Energy Services Subsidiary No. 9 LLC, Emera Energy Services Subsidiary No. 8 LLC, Emera Energy Services Subsidiary No. 7 LLC, Emera Energy Services Subsidiary No. 6 LLC, Emera Energy Services Subsidiary No. 5 LLC, Emera Energy Services Subsidiary No. 4 LLC, Emera Energy Services Subsidiary No. 3 LLC, Emera Energy Services Subsidiary No. 2 LLC, Emera Energy Services Subsidiary No. 1 LLC, Emera Energy U.S. Subsidiary No. 2, Inc., Emera Energy U.S. Subsidiary No. 1, Inc., Emera Energy Services, Inc., Tampa Electric Company.

Description: Notice of Change in Status of Tampa Electric Company, et al.

Filed Date: 1/6/23.

Accession Number: 20230106-5179.

Comment Date: 5 p.m. ET 1/27/23.

Docket Numbers: ER19-2901-009; ER15-2582-013; ER20-1980-007; ER20-2049-006; ER22-2518-001; ER21-2118-007; ER10-1851-017; ER21-2293-007; ER10-1852-074; ER10-1930-017; ER10-1931-018; ER15-2101-014; ER19-2389-009; ER12-2226-018; ER12-2225-018; ER14-2138-015; ER10-1966-019; ER14-21-015; ER11-4462-074; ER23-489-001; ER17-838-049; ER10-1951-052; ER21-1880-004; ER20-1985-006; ER20-1988-007; ER19-11-009; ER20-1219-006; ER20-1417-007; ER23-493-001; ER18-2091-011; ER22-1870-002; ER21-2109-004; ER20-2070-006.

Applicants: Wheatridge Wind II, LLC, Wheatridge Solar Energy Center, LLC, Vansycle II Wind, LLC, Titan Solar, LLC, Thunder Wolf Energy Center, LLC, Roundhouse Renewable Energy, LLC, Peetz Table Wind, LLC, Peetz Logan Interconnect, LLC, Northern Colorado Wind Energy Center II, LLC, Northern Colorado Wind Energy Center, LLC, Niyol Wind, LLC, NextEra Energy Services Massachusetts, LLC, NextEra Energy Marketing, LLC, Neptune Energy Center, LLC, NEPM II, LLC, Mountain View Solar, LLC, Logan Wind Energy LLC, Limon Wind III, LLC, Limon Wind II, LLC, Limon Wind, LLC, Grazing Yak Solar, LLC, Golden West Power Partners, LLC, FPL Energy Vansycle, L.L.C., FPL Energy Stateline II, Inc., Florida Power & Light Company, Fish Springs Ranch Solar, LLC, ESI Vansycle Partners, L.P., Dodge Flat Solar, LLC, Clearwater Wind I, LLC, Cedar Springs Wind III, LLC, Cedar Springs Wind, LLC, Carousel Wind Farm, LLC, Bronco Plains Wind, LLC.

Description: Triennial Market Power Analysis for Northwest Region of Bronco Plains Winds, LLC, et al.

Filed Date: 1/4/23.

Accession Number: 20230104-5206.

Comment Date: 5 p.m. ET 3/6/23.

Docket Numbers: ER20-1085-004.

Applicants: Virginia Electric and Power Company, PJM Interconnection, L.L.C.

Description: Compliance filing: Virginia Electric and Power Company submits tariff filing per 35: Dominion Amendment to Second Order No. 864 Compliance Filing to be effective 1/27/2020.

Filed Date: 1/9/23.

Accession Number: 20230109-5023.

Comment Date: 5 p.m. ET 1/30/23.

Docket Numbers: ER23-68-003.

Applicants: PJM Interconnection, L.L.C.

Description: Tariff Amendment: Request to Defer Action on Amendment to ISA, SA No. 1949; Queue No. NQ16 to be effective 12/31/1998.

Filed Date: 1/9/23.

Accession Number: 20230109-5018.

Comment Date: 5 p.m. ET 1/30/23.

Docket Numbers: ER23-413-001.

Applicants: Midcontinent Independent System Operator, Inc.

Description: Tariff Amendment: 2023-01-09_Amendment to Generation Stability Limits and other limitations to be effective 12/31/9998.

Filed Date: 1/9/23.

Accession Number: 20230109-5052.

Comment Date: 5 p.m. ET 1/30/23.

Docket Numbers: ER23-784-000.

Applicants: PJM Interconnection, L.L.C.

Description: § 205(d) Rate Filing: Amendment to ISA, Service Agreement No. 4225; Queue No. AF2-103 to be effective 1/28/2021.

Filed Date: 1/9/23.

Accession Number: 20230109-5007.

Comment Date: 5 p.m. ET 1/30/23.

Docket Numbers: ER23-785-000.

Applicants: Microgrid Networks LLC.

Description: Microgrid Networks, LLC Requests Limited, Prospective Waiver of Tariff Requirement in Section 25.6.2.3.1 of Attachment S of the New York Independent System Operator Inc.

Filed Date: 1/6/23.

Accession Number: 20230106-5181.

Comment Date: 5 p.m. ET 1/13/23.

Docket Numbers: ER23-786-000.

Applicants: ConnectGen Montgomery County LLC.

Description: ConnectGen Montgomery County LLC Requests Prospective, Limited Tariff Waiver of Requirement in Section 25.6.2.3.1 of Attachment S of the New York Independent System Operator Inc.

Filed Date: 1/6/23.

Accession Number: 20230106-5182.

Comment Date: 5 p.m. ET 1/13/23.

Docket Numbers: ER23-787-000.

Applicants: York Run Solar, LLC.

Description: Request of York Run Solar, LLC for Limited Prospective Waiver Requirement in Section 25.6.2.3.1 of Attachment S of the New York Independent System Operator Inc.

Filed Date: 1/6/23.

Accession Number: 20230106-5183.

Comment Date: 5 p.m. ET 1/13/23.

Docket Numbers: ER23-788-000.

Applicants: Tri-State Generation and Transmission Association, Inc.

Description: Tariff Amendment: Notice of Cancellation of Service Agreements FERC No. 101 and 202 to be effective 12/31/2022.

Filed Date: 1/9/23.

Accession Number: 20230109-5055.

Comment Date: 5 p.m. ET 1/30/23.

Docket Numbers: ER23-789-000.

Applicants: Alabama Power Company, Georgia Power Company, Mississippi Power Company.

Description: § 205(d) Rate Filing: Alabama Power Company submits tariff filing per 35.13(a)(2)(iii): Dahlia Solar LGIA Filing to be effective 12/22/2022.

Filed Date: 1/9/23.

Accession Number: 20230109-5059.

Comment Date: 5 p.m. ET 1/30/23.

Docket Numbers: ER23-790-000.

Applicants: Midcontinent Independent System Operator, Inc.

Description: § 205(d) Rate Filing: 2023-01-09_SA 3331 Termination of WPSC-ATC E&P (J886) to be effective 1/10/2023.

Filed Date: 1/9/23.

Accession Number: 20230109-5080.

Comment Date: 5 p.m. ET 1/30/23.

Docket Numbers: ER23-791-000.

Applicants: Consolidated Edison Energy, Inc.

Description: § 205(d) Rate Filing: Market-Based Rate Tariff Updates to be effective 1/10/2023.

Filed Date: 1/9/23.

Accession Number: 20230109-5090.

Comment Date: 5 p.m. ET 1/30/23.

Docket Numbers: ER23-792-000.

Applicants: Consolidated Edison Solutions, Inc.

Description: § 205(d) Rate Filing: Market-Based Rate Tariff Updates to be effective 1/10/2023.

Filed Date: 1/9/23.

Accession Number: 20230109-5091.

Comment Date: 5 p.m. ET 1/30/23.

Docket Numbers: ER23-793-000.

Applicants: Alpaugh 50, LLC.

Description: § 205(d) Rate Filing: Market-Based Rate Tariff Updates to be effective 1/10/2023.

Filed Date: 1/9/23.

Accession Number: 20230109-5093.

Comment Date: 5 p.m. ET 1/30/23.

Docket Numbers: ER23-794-000.

Applicants: Alpaugh North, LLC.

Description: § 205(d) Rate Filing: Market-Based Rate Tariff Updates to be effective 1/10/2023.

Filed Date: 1/9/23.

Accession Number: 20230109-5095.

Comment Date: 5 p.m. ET 1/30/23.

Docket Numbers: ER23-795-000.

Applicants: CED White River Solar, LLC.

Description: § 205(d) Rate Filing: Market-Based Rate Tariff Updates to be effective 1/10/2023.

Filed Date: 1/9/23.

Accession Number: 20230109-5097.

Comment Date: 5 p.m. ET 1/30/23.

Docket Numbers: ER23-796-000.

Applicants: Copper Mountain Solar 2, LLC.

Description: § 205(d) Rate Filing: Market-Based Rate Tariff Updates to be effective 1/10/2023.

Filed Date: 1/9/23.

Accession Number: 20230109-5098.

Comment Date: 5 p.m. ET 1/30/23.

Docket Numbers: ER23-797-000.

Applicants: Mesquite Solar 1, LLC.

Description: § 205(d) Rate Filing: Market-Based Rate Tariff Updates to be effective 1/10/2023.

Filed Date: 1/9/23.

Accession Number: 20230109-5101.

Comment Date: 5 p.m. ET 1/30/23.

Docket Numbers: ER23-798-000.

Applicants: Boralex Inc.

Description: Boralex, Inc. Requests a One-Time Limited Prospective Waiver of Tariff Requirement in Section 25.6.2.3.1 of Attachment S of the New York Independent System Operator Inc.

Filed Date: 1/9/23.

Accession Number: 20230109-5135.

Comment Date: 5 p.m. ET 1/17/23.

Take notice that the Commission received the following electric securities filings:

Docket Numbers: ES23-25-000.

Applicants: Rockland Electric Company.

Description: Application Under Section 204 of the Federal Power Act for Authorization to Issue Securities of Rockland Electric Company.

Filed Date: 1/6/23.

Accession Number: 20230106-5171.

Comment Date: 5 p.m. ET 1/27/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2023.
Debbie-Anne A. Reese,
Deputy Secretary.

[FR Doc. 2023-00613 Filed 1-12-23; 8:45 am]

BILLING CODE 6717-01-P